DEPARTMENT OF TRANSPORTATION

National Highway Traffic Safety Administration

[Docket No. NHTSA 2002-12367; Notice 2]

Toyota Motor Corporation; Grant of Application for Decision for Determination of Inconsequential Non-Compliance

This notice grants the application by Toyota Motor Corporation (TMC) of Aichi-ken, Japan, to be exempted from the notification and remedy requirements of 49 U.S.C. 30118 and 30120 for a noncompliance with 49 CFR 571.205, Federal Motor Vehicle Safety Standard (FMVSS) No. 205, “Glazing Materials.” TMC has filed an appropriate report pursuant to 49 CFR part 573, “Defect and Noncompliance Reports.” Pursuant to 49 CFR part 556, “Exemption for Inconsequential Defect or Noncompliance,” TMC has also applied to be exempted from the notification and remedy requirements of 49 U.S.C. chapter 301, “Motor Vehicle Safety.” The basis of the grant is that the noncompliance is inconsequential to motor vehicle safety.

Notice of receipt of the application was published July 8, 2002, (67 FR 45182) affording an opportunity for comment. The comment closing date was August 7, 2002. No comments were received.

From January 8, 2001 to May 17, 2001, TMC manufactured 5,789 airdams for use in 2002 Lexus SL 430 passenger cars that do not meet the labeling requirements of paragraph S6 of FMVSS No. 205. The airdams were not marked with the “DOT” symbol and a manufacturer's code.

FMVSS No. 205, paragraph S6, “Certification and marking,” requires that each piece of glazing material shall be marked in accordance with Section 6 of the American National Standard “Safety Code for Safety Glazing Materials for Glazing Materials for Glazing in Motor Vehicles Operating on Land Highways' Z-26.1-1977, January 26, 1977, as supplemented by Z26.1a, July 3, 1980 (ANS Z26). This specifies all safety glazing materials for use in accordance with this code shall be legibly and permanently marked in letters and numerals at least 0.070 inch (1.78 mm) in height, with the words “American National Standard” or the characters “AS” and, in addition, with a model number that will identify the type of construction of the glazing material. The glazing materials shall also be marked with the manufacturer's distinctive designation or trademark. In addition, FMVSS No. 205, paragraph S6.2 requires that each piece of glazing material be marked with the symbol “DOT.” The TMC airdams were constructed to comply as glazing materials under American National Standard Items 4 and 5, and should have been identified as “AS 4” or “AS 5.” TMC stated that the noncompliance consists of the airdams not being marked with the “DOT” symbol and the AS 4 or AS 5 codes.

According to TMC, during its design and testing process, it confirmed that the airdam meets the performance requirements of ANS Z26 for item 4 and item 5 glazing as referenced by FMVSS No. 205. It supplied two “Notice of Equipment Compliance” reports. The American Association of Motor Vehicle Administrators issued the first report, and the Japan Vehicle Inspection Association issued the second. The first, dated 1993, provided compliance information for AS 4 and AS 5 material that was used in the vehicle prior to inclusion of the marking and that expired in 1998. The second, dated 2001, provided compliance information for AS 4 and AS 5 material that was used after the marking was placed on the airdam. TMC claims there is virtually no difference between the compliance data; therefore, TMC believes there is no safety risk.

NHTSA has reviewed TMC's application and, for the reasons discussed in this paragraph, concludes that the noncompliance of the TMC airdam is inconsequential to motor vehicle safety. TMC has provided documentation indicating that the airdams do comply with all other safety performance requirements of the standard except the labeling. Consequently, the noncompliance would not affect the purposes of FMVSS No. 205 that include reducing injuries from impacts to glazing surfaces, ensuring driver visibility, or minimizing the possibility of occupants being thrown through the vehicle windows in collisions. The lack of labeling to the airdam described herein, would not result in inadvertent replacement of the airdams with the wrong glazing material. Since TMC is the only certifying manufacturer of the airdam, a person attempting to replace the airdam would have to contact TMC for the proper part. Consequently TMC, or their representative, would be able to provide the correct replacement airdam.

In consideration of the foregoing, NHTSA has decided that the applicant has met its burden of persuasion that the noncompliance it describes is inconsequential to motor vehicle safety.

Accordingly, the application is granted, and the applicant is exempted from providing the notification of the noncompliance that is required by 49 U.S.C. 30118, and from remedying the noncompliance, as required by 49 U.S.C. 30120.

The applicant is hereby informed that all products manufactured on and after the date it determined the existence of this noncompliance must fully comply with the requirements of FMVSS No. 205.

Authority: 49 U.S.C. 30118(b), 30120(h), delegations of authority at 49 CFR 1.50 and 501.8.

Issued on: February 27, 2003.
Stephen R. Kratzke,
Associate Administrator for Rulemaking.

[FR Doc. 03-5039 Filed 3-3-03; 8:45 am]

BILLING CODE 4910-59-P